DEPARTMENT OF ENERGY

Federal Energy Regulatory Commission

[Docket No. RP01-503-007]

Natural Gas Pipeline Company of America; Notice of Compliance Filing

January 16, 2007.

Take notice that on January 4, 2007, Natural Gas Pipeline Company of America (Natural) submitted a compliance filing pursuant to the Commission's Order issued September 21, 2006 in the above-referenced proceeding (Order).

Natural is submitting Substitute Third Revised Sheet No. 343 reflecting the CHDP safe harbor approved by the Commission in this proceeding to be effective February 5, 2007, as well as its proposal for compliance with the Order regarding interchangeability. The interchangeability proposal is set forth in the following pro forma tariff sheets to be implemented on a prospective basis:

Substitute First Revised Sheet No. 343A.

Original Sheet No. 343B.

Original Sheet No. 343C.

Natural states that the purpose of this filing is to comply with the Commission's Order in the above-referenced proceeding.

Natural states that copies of its filing are being sent to all parties set out on the Commission's official service list in Docket No. RP01-503.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E7-784 Filed 1-19-07; 8:45 am]

BILLING CODE 6717-01-P